DEPARTMENT OF HOMELAND SECURITY

Coast Guard

33 CFR Part 165

[Docket No. USCG-2013-0103]

Safety Zones; Annual Events in the Captain of the Port Detroit Zone

AGENCY: Coast Guard, DHS.

ACTION: Notice of enforcement of regulation.

SUMMARY: The Coast Guard will enforce various safety zones for annual marine events in the Captain of the Port Detroit zone from 9:30 p.m. on June 20, 2013 through 11:59 p.m. on August 31, 2013. Enforcement of these zones is necessary and intended to ensure safety of life on the navigable waters immediately prior to, during, and immediately after associated marine events. During the aforementioned period, the Coast Guard will enforce restrictions upon, and control movement of, vessels in a specified area immediately prior to, during, and immediately after fireworks events. During each enforcement period, no person or vessel may enter the respective safety zone without permission of the Captain of the Port.

DATES: The regulations in 33 CFR 165.941 will be enforced at various times between 9:30 p.m. on June 20, 2013 through 11:59 p.m. on August 31, 2013.

FOR FURTHER INFORMATION CONTACT: If you have questions on this notice, call or email LT Adrian Palomeque, Prevention, U.S. Coast Guard Sector Detroit, 110 Mount Elliot Ave., Detroit MI 48207; telephone (313) 568-9508, email Adrian.F.Palomeque@uscg.mil.

SUPPLEMENTARY INFORMATION: The Coast Guard will enforce the safety zones listed in 33 CFR 165.941, Safety Zones; Annual Events in the Captain of the Port Detroit Zone, at the following dates and times for the following events:

(1) Bay-Rama Fishfly Festival Fireworks, New Baltimore, MI.

The safety zone listed in 33 CFR 165.941(a)(29) will be enforced from 9:00 p.m. to 11:00 p.m. on June 20, 2013. In the case of inclement weather on June 20, 2013, this safety zone will be enforced from 9:00 p.m. to 11:00 p.m. on June 21, 2013. In the case of inclement weather on June 21, 2013, this safety zone will be enforced from 9:00 p.m. to 11:00 p.m. on June 22, 2013.

(2) St. Clair Shores Fireworks, St. Clair Shores, MI.

The safety zone listed in 33 CFR 165.941(a)(39) will be enforced from 10:00 p.m. to 10:30 p.m. on June 28, 2013. In the case of inclement weather on June 28, 2013, this safety zone will be enforced from 10:00 p.m. to 10:30 p.m. on June 29, 2013.

(3) Target Fireworks, Detroit, MI.

The first safety zone listed in 33 CFR 165.941(a)(50), on the waterfront area adjacent to 1351 Jefferson Avenue, Detroit, Michigan will be enforced from 8:00 a.m. on June 21, 2013 to 8:00 p.m. on June 24, 2013. In the case of inclement weather on June 24, 2013, the first safety zone will be enforced one additional day, from 8:00 a.m. on June 21, 2013 to 8:00 p.m. on June 25, 2013.

The second safety zone listed in 33 CFR 165.941(a)(50) will be enforced from 8:00 p.m. to 11:55 p.m. on June 24, 2013. In the case of inclement weather on June 24, 2013, the second safety zone will be enforced from 8:00 p.m. to 11:55 p.m. on June 25, 2013.

The third safety zone listed in 33 CFR 165.941(a)(50) will be enforced from 6:00 p.m. to 11:55 p.m. on June 24, 2013. In the case of inclement weather on June 24, 2013, the third safety zone will be enforced from 6:00 p.m. to 11:55 p.m. on June 25, 2013.

(4) Sigma Gamma Fireworks, Grosse Pointe Farms, MI.

The safety zone listed in 33 CFR 165.941(a)(51) will be enforced from 9:30 p.m. to 10:15 p.m. on June 24, 2013.

(5) Harrisville Fireworks, Harrisville, MI.

The safety zone listed in 33 CFR 165.941(a)(7) will be enforced from 9:30 p.m. to 11:30 p.m. on July 6, 2013. In the case of inclement weather on July 6, 2013, this safety zone will be enforced from 9:30 p.m. to 11:30 p.m. on July 7, 2013.

(6) Caseville Fireworks, Caseville, MI.

The safety zone listed in 33 CFR 165.941(a)(36) will be enforced from 10:00 p.m. to 11:30 p.m. on July 5, 2013. In the case of inclement weather on July 5, 2013, this safety zone will be enforced from 10:00 p.m. to 11:30 p.m. on July 6, 2013.

(7) Lexington Independence Festival Fireworks, Lexington, MI.

The safety zone listed in 33 CFR 165.941(a)(42) will be enforced from 10:00 p.m. to 10:30 p.m. on July 4, 2013. In the case of inclement weather on July 4, 2013, this safety zone will be enforced from 10:00 p.m. to 10:30 p.m. on July 5, 2013.

(8) Algonac Pickerel Tournament Fireworks, Algonac, MI.

The safety zone listed in 33 CFR 165.941(a)(37) will be enforced from 10:00 p.m. to 10:30 p.m. on July 5, 2013. In the case of inclement weather on July 5, 2013, this safety zone will be enforced from 10:00 p.m. to 10:30 p.m. on July 6, 2013.

(9) Grosse Pointe Farms Fireworks, Grosse Pointe Farms, MI.

The safety zone listed in 33 CFR 165.941(a)(35) will be enforced from 10:00 p.m. to 10:30 p.m. on June 29, 2013. In the case of inclement weather on June 29, 2013, this safety zone will be enforced from 10:00 p.m. to 10:30 p.m. on July 6, 2013.

(10) Belle Maer Harbor 4th of July Fireworks, Harrison Township, MI.

The safety zone listed in 33 CFR 165.941(a)(46) will be enforced from 10:00 p.m. to 10:30 p.m. on July 4, 2013. In the case of inclement weather on July 4, 2013, this safety zone will be enforced from 10:00 p.m. to 10:30 p.m. on July 5, 2013.

(11) City of St. Clair Fireworks, St. Clair, MI.

The safety zone listed in 33 CFR 165.941(a)(31) will be enforced from 10:00 p.m. to 10:30 p.m. on July 4, 2013. In the case of inclement weather on July 4, 2013, this safety zone will be enforced from 10:00 p.m. to 10:30 p.m. on July 5, 2013.

(12) Port Austin Fireworks, Port Austin, MI.

The safety zone listed in 33 CFR 165.941(a)(33) will be enforced from 10:00 p.m. to 10:30 p.m. on July 4, 2013. In the case of inclement weather on July 4, 2013, this safety zone will be enforced from 10:00 p.m. to 10:30 p.m. on July 5, 2013.

(13) Trenton Rotary Roar on the River Fireworks, Trenton, MI.

The safety zone listed in 33 CFR 165.941(a)(9) will be enforced from 10:00 p.m. until 11:00 p.m. on July 19, 2013. In the case of inclement weather on July 19, 2013, this safety zone will be enforced from 10:00 p.m. until 11:00 p.m. on July 20, 2013.

(14) Detroit International Jazz Festival Fireworks, Detroit, MI.

The safety zone listed in 33 CFR 165.941(a)(12) will be enforced from 10:00 p.m. to 11:59 p.m. on August 31, 2013. In the case of inclement weather on August 31, 2013, this safety zone will be enforced from 10:00 p.m. to 11:59 p.m. on September 1, 2013. In the case of inclement weather on September 1, 2013, this safety zone will be enforced from 10:00 p.m. to 11:59 p.m. on September 2, 2013.

(15) Tawas City 4th of July Fireworks, Tawas City, MI.

The safety zone listed in 33 CFR 165.941(a)(47) will be enforced from 10:00 p.m. to 11:00 p.m. on July 4, 2013. In the case of inclement weather on July 4, 2013, this regulation will be enforced from 10:00 p.m. to 11:00 p.m. on July 5, 2013.

(16) Bay City Fireworks Festival, Bay City, MI.

The safety zone listed in 33 CFR 165.941(a)(53) will be enforced from 10:05 p.m. to 10:55 p.m. on July 4, 5, and 6 2013. In the case of inclement weather on July 6, 2013, this safety zone will be enforced from 10:05 p.m. to 10:55 p.m. on July 7, 2013.

(17) Roostertail Fireworks, Detroit, MI.

The safety zone listed in 33 CFR 165.941(a)(1) will be enforced from 10:00 p.m. to 10:30 p.m. on June 26, 2013.

(18) Huron Riverfest Fireworks, Huron, OH.

The safety zone listed in 33 CFR 165.941(a)(23) will be enforced from 10:15 p.m. until 10:30 p.m. on July 12, 2013.

(19) Red, White and Blues Bang Fireworks, Huron, OH.

The safety zone listed in 33 CFR 165.941(a)(22) will be enforced from 10:15 p.m. until 10:30 p.m. on July 6, 2013.

(20) Put-In-Bay Chamber of Commerce Fireworks, Put-In-Bay, OH.

The safety zone listed in 33 CFR 165.941(a)(57) will be enforced from 9:30 p.m. until 9:45 p.m. on June 29, 2013.

(21) Perrysburg/Maumee 4th of July Fireworks, Perrysburg, OH.

The safety zone listed in 33 CFR 165.941(a)(19) will be enforced from 10:30 p.m. to 10:30 p.m. on July 3, 2013.

(22) Grosse Ile Yacht Club Fireworks, Grosse Ile, MI.

The safety zone listed in 33 CFR 165.941(a)(44) will be enforced from 8:45 p.m. to 10:45 p.m. on July 5, 2013.

(23) Trenton Fireworks, Trenton, MI. The safety zone listed in 33 CFR 165.941(a)(45) will be enforced from 10:00 p.m. to 10:30 p.m. on July 4, 2013. In the case of inclement weather on July 4, 2013, this safety zone will be enforced from 10:00 p.m. to 10:30 p.m. on July 5, 2013.

(24) Grosse Pointe Yacht Club 4th of July Fireworks, Grosse Pointe Shores, MI. The safety zone listed in 33 CFR 165.941(a)(41) will be enforced from 10:00 p.m. to 10:30 p.m. on July 4, 2013. In the case of inclement weather on July 4, 2013, this safety zone will be enforced from 10:00 p.m. to 10:30 p.m. on July 5, 2013.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM. The Coast Guard will give notice to the public via Local Notice to Mariners and VHF radio broadcasts that the regulation is in effect.

This document is issued under authority of 33 CFR 165.941 and 5 U.S.C. 552(a). If the Captain of the Port determines that any of these safety zones need not be enforced for the full duration stated in this notice, he or she may suspend such enforcement and notify the public of the suspension via a Broadcast Notice to Mariners.

Dated: June 19, 2013.
J. E. Ogden,
Captain, U.S. Coast Guard, Captain of the Port Detroit.

[FR Doc. 2013-16390 Filed 7-8-13; 8:45 am]

BILLING CODE 9110-04-P